DEPARTMENT OF THE INTERIOR

National Park Service

Notice of Availability of the Final Wilderness Study/Final Environmental Impact Statement, Apostle Islands National Lakeshore

AGENCY: National Park Service, U.S. Department of the Interior.

SUMMARY: Pursuant to the National Environmental Policy Act of 1969, 42 U.S.C. 4332(C), the National Park Service (NPS) announces the availability of a final wilderness study/environmental impact statement (EIS) for Apostle Islands National Lakeshore, Wisconsin.

DATES: The draft wilderness study/environmental impact statement was on public review from July 11, 2003, through October 17, 2003. As required under § 3(d)(1) of the Wilderness Act (Act), a public hearing was held on the draft wilderness study on August 27, 2003, near Ashland, Wisconsin. Responses to substantive public comments are addressed in the final EIS. The NPS will execute a record of decision (ROD) no sooner than 30 days following publication of the Environmental Protection Agency's notice of availability of the final environmental impact statement in the Federal Register.

ADDRESSES: Copies of the final EIS are available upon request by writing Mr. Jim Nepstad, Wilderness Study Coordinator, Apostle Islands National Lakeshore, Route 1, Box 4, Bayfield, Wisconsin 54814, by calling (715) 779-3398, extension 102, or by e-mail message at apis_comments@nps.gov. The document can be picked-up in person at the park's headquarters at 415 Washington Avenue, Bayfield, Wisconsin.

FOR FURTHER INFORMATION CONTACT: Mr. Jim Nepstad, Wilderness Study Coordinator, Apostle Islands National Lakeshore, Route 1, Box 4, Bayfield, Wisconsin 54814, or by calling (715) 779-3198, extension 102.

SUPPLEMENTARY INFORMATION: The Act and the NPS management policies require that all lands administered by the NPS be evaluated for their suitability for inclusion within the national wilderness preservation system. The purpose of this wilderness study is to determine if and where lands and waters within the Apostle Islands National Lakeshore should be proposed for wilderness designation. The study identifies four possible wilderness configurations within the park, including a no wilderness alternative, and evaluates their effects. Based on the findings of this study, a formal wilderness proposal will be submitted to the Director of the NPS for approval and subsequent consideration by the Department of the Interior, President, and Congress under the provisions of the Act.

Dated: February 12, 2004.
Ernest Quintana,
Regional Director, Midwest Region.

[FR Doc. 04-7136 Filed 3-30-04; 8:45 am]

BILLING CODE 4312-97-P